FEDERAL COMMUNICATIONS COMMISSION

47 CFR Part 64

[CG Docket No. 10-210; FCC 16-69]

Relay Services for Deaf Blind Individuals

AGENCY: Federal Communications Commission.

ACTION: Final rule.

SUMMARY: In this document, the Federal Communications Commission (Commission) extends the National Deaf Blind Equipment Distribution Program (NDBEDP) as a pilot program for one additional year. The NDBEDP provides up to $10 million annually to support programs that distribute communications equipment to low-income individuals who are deaf-blind. Extending the pilot program enables the NDBEDP to continue providing communications equipment to low-income individuals who are deaf-blind without interruption while the Commission considers whether to adopt rules to govern a permanent NDBEDP.

DATES: Effective July 1, 2016.

FOR FURTHER INFORMATION CONTACT: Rosaline Crawford, Disability Rights Office, Consumer and Governmental Affairs Bureau, at phone: (202) 418-2075 or email: Rosaline.Crawford@fcc.gov.

SUPPLEMENTARY INFORMATION: This is a summary of the Commission's Order (Order), Twenty-First Century Communications and Video Accessibility Act of 2010, Section 105, Relay Services for Deaf-Blind Individuals, CG Docket No. 10-210, FCC 16-69, adopted on May 26, 2016, and released on May 27, 2016. The full text of this document will be available for public inspection and copying via ECFS, and during regular business hours at the FCC Reference Information Center, Portals II, 445 12th Street SW., Room CY-A257, Washington, DC 20554. The full text of this document can also be downloaded in Word or Portable Document Format (PDF) at: https://www.fcc.gov/general/disability-rights-office-headlines. To request materials in accessible formats for people with disabilities (Braille, large print, electronic files, audio format), send an email to fcc504@fcc.gov or call the Consumer and Governmental Affairs Bureau at 202-418-0530 (voice), 202-418-0432 (TTY).

Final Paperwork Reduction Act of 1995 Analysis

This Order does not contain new or modified information collection requirements subject to the Paperwork Reduction Act (PRA) of 1995, Public Law 104-13. In addition, therefore, it does not contain any new or modified information collection burden for small business concerns with fewer than 25 employees, pursuant to the Small Business Paperwork Relief Act of 2002, Public Law 107-198, see 44 U.S.C. 3506(c)(4).

Synopsis

1. In this Order, the Commission extends the National Deaf-Blind Equipment Distribution Program (NDBEDP), as a pilot program, for one additional year, until June 30, 2017. The NDBEDP provides up to $10 million annually to support programs that distribute communications equipment to low-income individuals who are deaf-blind. The NDBEDP has operated as a pilot program since July 2012 and is currently set to expire on June 30, 2016. Extending the pilot program for an additional year will enable the NDBEDP to continue providing communications equipment to low-income individuals who are deaf-blind without interruption while the Commission completes the proceeding that is underway to adopt rules to govern a permanent NDBEDP.

2. The Twenty-First Century Communications and Video Accessibility Act of 2010 (CVAA), 47 U.S.C. 620, directed the Commission to establish rules to provide up to $10 million annually from the Interstate Telecommunications Relay Service Fund (TRS Fund) to support programs that distribute communications equipment to low-income individuals who are deaf-blind. In accordance with this directive, the Commission established the NDBEDP as a two-year pilot program, with an option to extend this program for an additional year. The Consumer and Governmental Affairs Bureau (CGB or Bureau) launched the NDBEDP as a pilot program on July 1, 2012. Twenty-First Century Communications and Video Accessibility Act of 2010, Section 105, Relay Services for Deaf-Blind Individuals, Report and Order, published at 76 FR 26641, May 9, 2011. To implement the program, the Bureau certified 53 entities to participate in the NDBEDP—one entity to distribute communications equipment in each state, plus the District of Columbia, Puerto Rico, and the U.S. Virgin Islands—and selected a national outreach coordinator to support the outreach and distribution efforts of these state programs. On February 7, 2014, the Bureau extended the pilot program for a third year, until June 30, 2015. Twenty-First Century Communications and Video Accessibility Act of 2010, Section 105, Relay Services for Deaf-Blind Individuals, Order (CGB 2015). On May 27, 2015, the Commission released a Notice of Proposed Rulemaking to obtain additional input from the public on how best to design and administer a permanent NDBEDP. Twenty-First Century Communications and Video Accessibility Act of 2010, Section 105, Relay Services for Deaf-Blind Individuals, Notice of Proposed Rulemaking, published at 80 FR 32885, June 10, 2015. In addition, the Commission simultaneously issued an Order that extended the pilot program for an additional year, until June 30, 2016. Twenty-First Century Communications and Video Accessibility Act of 2010, Section 105, Relay Services for Deaf-Blind Individuals, Order, published at 80 FR 32857, June 10, 2015.

3. To ensure the uninterrupted administration of the NDBEDP until the conclusion of the rulemaking proceeding and the establishment of a permanent program for the delivery of communications equipment to low-income individuals who are deaf-blind, the Commission extends the existing NDBEDP pilot program rules for one additional year, until June 30, 2017. The Commission adopts this extension because it anticipates that this rulemaking proceeding and the implementation of new rules that may result will not be completed by June 30, 2016, when the rules governing the NDBEDP pilot program are scheduled to expire.

4. Many individuals who have received equipment and training under the NDBEDP have reported that this program has vastly improved their daily lives, significantly enhancing their ability to live independently and expanding their educational and employment opportunities. Extending the pilot program will serve the public interest because it will allow a seamless transition between the pilot and permanent programs. This extension will also provide greater programmatic certainty and stability to entities that are currently certified to participate in the NDBEDP in each of the 50 states plus the District of Columbia, Puerto Rico, and the U.S. Virgin Islands.

5. Federal Rules Which Duplicate, Overlap, or Conflict With, the Commission's Proposals. None.

6. The Commission will send a copy of the Order, including a copy of the Final Regulatory Flexibility Certification, to the Chief Counsel for Advocacy of the SBA.

Congressional Review Act

7. The Commission will not send a copy of the Order pursuant to the Congressional Review Act, because the Commission adopted no rules therein. See 5 U.S.C. 801(a)(1)(A). Rather than adopting rules, the Commission exercised its statutory authority to extend the NDBEDP as a pilot program by this Order for one additional year.

Ordering Clause

8. Pursuant to the authority contained in sections 1, 4(i), 4(j), and 719 of the Communications Act of 1934, as amended, 47 U.S.C. 151, 154(i), 154(j), 620, the Order is adopted.

Federal Communications Commission.
Gloria J. Miles,
Federal Register Liaison Officer, Office of the Secretary.

[FR Doc. 2016-13221 Filed 6-3-16; 8:45 am]

BILLING CODE 6712-01-P